DEPARTMENT OF TRANSPORTATION

Federal Highway Administration

Environmental Impact Statement: Suffolk County, NY

AGENCY: Federal Highway Administration, NYSDOT.

ACTION: Notice of intent.

SUMMARY: The FHWA is issuing this notice to advise the public that an environmental impact statement will be prepared for proposed highway project PIN 0016.20, Reconstruction of NY Route 112, I-495 to Skips Road (Mill Road Connector), Suffolk County, New York.

FOR FURTHER INFORMATION CONTACT:

Thomas Oelerich, P.E., Acting Regional Director, New York State Department of Transportation, 250 Veterans Memorial Highway, Hauppauge, New York 11788, Telephone: (631) 952-6632, or

Robert Arnold, Division Administrator, Federal Highway Administration, New York Division, Leo W. O'Brien Federal Building, 7th Floor, Room 719, Clinton Avenue and North Pearl Street, Albany, New York 12207, Telephone: (518) 431-4127.

SUPPLEMENTARY INFORMATION: The FHWA, in cooperation with New York State Department of Transportation (NYSDOT) will prepare an environmental impact statement (EIS) on the proposal to improve NY Route 112, I-495 to Skips Road (Mill Road Connector), Suffolk County, New York. The proposed improvement would involve the reconstruction of the existing route in the hamlets of Coram and Medford, Town of Brookhaven for a distance of 4.6 km (3 miles). The objectives of the project are:

• Provide cost effective improvements so that the existing facility will provide adequate capacity and operational characteristics, which are compatible with planned current and long-range transportation improvements to address project area development and growth.

• Improve highway conditions to provide satisfactory access to abutting land uses.

• Provide cost effective improvements to the existing transportation factility which will mitigate adverse social, economic and environmental consequences; minimize adverse effects on culturally significant sites; and which are acceptable to the community.

• Improve intersection capacity and operation to eliminate recurring daily delay.

• Provide transportation improvements that reduce or eliminate the potential of vehicular conflict/accident.

• Correct identified pavement deficiencies in order to attain a structurally sound highway.

• Provide an adequate closed drainage system to convey roadway storm water runoff and eliminate existing roadway flooding conditions.

Alternatives under consideration include one no-build and one build alternatives as follows:

• Alternative I—no build.

• Alternative II—build; involving reconstruction and realigning of NY Route 112 into a four-lane highway with two-way continuous left turn land or raised median.

Letters describing the proposed action and soliciting comments will be sent to appropriate Federal, State, and local agencies, and to private organizations and citizens who have previously expressed interest in this proposal. In addition, a public information center/scoping meeting will be held in Brookhaven Town Hall in Medford on January 14, 2002. Public notice will be given of the time and place of the meeting. A formal NEPA scoping meeting will not be held.

To ensure that the full range of issues related to this proposed action are addressed and all substantial issues and alternatives identified, comments and suggestions are invited from all interested parties. Comments or questions concerning this proposed action should be directed to the NYSDOT and FHWA at the addresses provided above.

(Catalog of Federal Domestic Assistance Program Number 20.205, Highway Research, Planning and Construction. The regulation implementing Executive Order 12372 regarding intergovernmental consultation on Federal programs and activities apply to this program)

Authority: 23 U.S.C. 315; 23 CFR 771.123.

Issued on: December 10, 2002.
Douglas P. Conlan,
District Engineer, Federal Highway Administration, New York Division, Albany, New York.

[FR Doc. 02-32001 Filed 12-18-02; 8:45 am]

BILLING CODE 4910-22-M